NATIONAL TRANSPORTATION SAFETY BOARD

Sunshine Act Meeting

Agenda

Time and Date: 9:30 a.m., Tuesday, October 17, 2006.

Place: NTSB Conference Center, 429 L'Enfant Plaza, SW., Washington, DC 20594.

Status: The two items are open to the public.

Matters to be Considered: 7835—Railroad Accident Brief and Safety Recommendation Letters—Collision of Two Union Pacific Railroad Freight Trains, Texarkana, Arkansas, October 15, 2005.

7836—Railroad Accident Brief and Safety Recommendation Letters—Derailment of Amtrak Passenger Train No. 27, Home Valley, Washington, April 3, 2005.

News Media Contact: The Office of Public Affairs, Telephone: (202) 314-6100.

Individuals requesting specific accommodations should contact Chris Bisett at (202) 314-6305 by Friday, October 13, 2006.

The public may view the meeting via a live or archived webcast by accessing a link under “News & Events” on the NTSB home page at www.ntsb.gov.

FOR FURTHER INFORMATION CONTACT: Vicky D'Onofrio, (202) 314-6410.

Dated: October 6, 2006.
Vicky D'Onofrio,
Federal Register Liaison Officer.

[FR Doc. 06-8644 Filed 10-6-06; 8:45 am]

BILLING CODE 7533-01-M